DEPARTMENT OF TRANSPORTATION

Federal Aviation Administration

14 CFR Part 39

[Docket No. 2002-NM-90-AD]

RIN 2120-AA64

Airworthiness Directives; BAe Systems (Operations) Limited Model BAe 146 and Avro 146-RJ Series Airplanes

AGENCY: Federal Aviation Administration, DOT.

ACTION: Notice of proposed rulemaking (NPRM).

SUMMARY: This document proposes the supersedure of an existing airworthiness directive (AD), applicable to certain BAe Systems (Operations) Limited Model BAe 146 and Avro 146-RJ series airplanes, that currently requires identifying the part numbers of discharge valves and cabin pressure controllers, and related investigative and corrective actions if necessary. This action would require identifying the part number of an additional cabin pressure controller, and related investigative and corrective actions if necessary. The actions specified by the proposed AD are intended to prevent the installation of incorrect pressurization discharge valves and cabin pressure controllers, which could subject the airframe to excess stress and adversely affect the airframe fatigue life. This action is intended to address the identified unsafe condition.

DATES: Comments must be received by July 21, 2004.

ADDRESSES: Submit comments in triplicate to the Federal Aviation Administration (FAA), Transport Airplane Directorate, ANM-114, Attention: Rules Docket No. 2002-NM-90-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-90-AD” in the subject line and need not be submitted in triplicate. Comments sent via the Internet as attached electronic files must be formatted in Microsoft Word 97 or 2000 or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-90-AD.” The postcard will be date stamped and returned to the commenter.

Availability of NPRMs

Any person may obtain a copy of this NPRM by submitting a request to the FAA, Transport Airplane Directorate, ANM-114, Attention: Rules Docket No. 2002-NM-90-AD, 1601 Lind Avenue, SW., Renton, Washington 98055-4056.

Discussion

On July 25, 2001, the FAA issued AD 2001-15-23, amendment 39-12358 (66 FR 40864, August 6, 2001), applicable to certain BAe Systems (Operations) Limited Model BAe 146 and Avro 146-RJ series airplanes, to require identifying the part numbers of discharge valves and cabin pressure controllers, and replacing them with new parts if necessary. That action was prompted by reports indicating that incorrect front and/or rear pressurization discharge valves were found installed on some affected airplanes. In addition, it is possible that some operators may have installed incorrect flight deck-mounted cabin pressure controllers. Because of pressurization problems associated with use of the incorrect discharge valves and cabin pressure controllers, the airframe may be subject to excess stress, which could adversely affect the airframe fatigue life. The requirements of that AD are intended to prevent the installation of incorrect pressurization discharge valves and cabin pressure controllers.

Actions Since Issuance of Previous Rule

Since the issuance of that AD, the manufacturer discovered that a requirement to identify the part number of the cabin pressure controller that is calibrated in inches of mercury was omitted from BAe Systems (Operations) Limited Inspection Service Bulletin ISB.21-148, Revision 1, dated February 6, 2001. (The part number specified in that service bulletin was only for a cabin pressure controller that is calibrated in millibars.) That service bulletin was referenced as the appropriate source of service information in AD 2001-15-23.

Explanation of Relevant Service Information

BAe Systems (Operations) Limited has issued Inspection Service Bulletin ISB.21-155, dated February 15, 2002, which describes procedures for identifying the part numbers of the front and rear pressurization discharge valves and the cabin pressure controllers, and related investigative and corrective actions. The corrective actions include replacing any incorrect part with a new, correct part. The related investigative action includes a repetitive structural inspection after the replacement of an incorrect part. For airplanes equipped with certain auto-pressurization equipment (installed during BAe Systems Modification HCM50258A), the service bulletin recommends limiting the airplane ceiling until the incorrect parts can be replaced. Accomplishment of the actions specified in the service bulletin is intended to adequately address the identified unsafe condition. The Civil Aviation Authority (CAA), which is the airworthiness authority for the United Kingdom, classified this service bulletin as mandatory and issued British airworthiness directive 004-02-2002 to ensure the continued airworthiness of these airplanes in the United Kingdom.

FAA's Conclusions

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed AD

Since an unsafe condition has been identified that is likely to exist or develop on other airplanes of the same type design registered in the United States, the proposed AD would supersede AD 2001-15-23 to continue to require identifying the part numbers of discharge valves and cabin pressure controllers, and related investigative and corrective actions. This amendment also would require identifying the part number of the cabin pressure controller that is calibrated in inches of mercury and related investigative and corrective actions. The actions would be required to be accomplished in accordance with BAe Systems (Operations) Limited Inspection Service Bulletin ISB.21-155, dated February 15, 2002, described previously, except as discussed below.

Difference Between Proposed AD and Service Information

Although the service bulletins referenced in this proposed AD specify to submit certain information to the manufacturer, and to return certain parts to the part manufacturer, this proposed AD would not include such a requirement.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. Because we have now included this material in part 39, only the office authorized to approve AMOCs is identified in each individual AD; therefore, paragraph (d) and Note 1 of AD 2001-15-23 are not included in this proposed AD.

Cost Impact

There are approximately 20 airplanes of U.S. registry that would be affected by this proposed AD.

The actions that are currently required by AD 2001-15-23 and continued in this proposed AD take approximately 3 work hours per airplane to accomplish, at an average labor rate of $65 per work hour. Based on these figures, the cost impact of the currently required actions on U.S. operators is estimated to be $3,900, or $195 per airplane.

The new actions that are proposed in this AD would take approximately 3 work hours to accomplish, at an average labor rate of $65 per work hour. Based on these figures, the cost impact of the proposed requirements on U.S. operators is estimated to be $3,900, or $195 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12358 (66 FR 40864, August 6, 2001), and by adding a new airworthiness directive (AD), to read as follows:

BAE Systems (Operations) Limited (Formerly British Aerospace Regional Aircraft): Docket 2002-NM-90-AD. Supersedes AD 2001-15-23, Amendment 39-12358.

Applicability: Model BAe 146 and Avro 146-RJ series airplanes, certificated in any category, as listed in BAe Systems (Operations) Limited Inspection Service Bulletin ISB.21-155, dated February 15, 2002.

Compliance: Required as indicated, unless accomplished previously.

To prevent the installation of incorrect pressurization discharge valves and cabin pressure controllers, which could subject the airframe to excess stress and adversely affect the airframe fatigue life, accomplish the following:

Restatement of Certain Requirements of AD 2001-15-23

Part Identification

(a) As specified in paragraph (a)(1) or (a)(2) of this AD, as applicable: Identify the part numbers of the pressurization discharge valves and cabin pressure controllers to determine if any installed part is incorrect, as defined by and in accordance with BAe Systems (Operations) Limited Inspection Service Bulletin ISB.21-148, Revision 1, dated February 6, 2001; or BAe Systems (Operations) Limited Inspection Service Bulletin ISB.21-155, dated February 15, 2002. As of the effective date of this AD, only BAe Systems (Operations) Limited Inspection Service Bulletin ISB.21-155 may be used.

(1) For airplanes post-Modification HCM50258A: Identify the part numbers within 30 days after September 10, 2001 (the effective date of AD 2001-15-23, amendment 39-12358); and, if any part is incorrect, limit the airplane ceiling to 31,000 feet until the incorrect part is replaced, as specified by paragraph (c) of this AD.

(2) For airplanes pre-Modification HCM50258A: Identify the part numbers within 6 months after September 10, 2001.

New Requirements of This AD

Part Identification

(b) For airplanes on which the requirements of BAe Systems (Operations) Limited Inspection Service Bulletin ISB.21-148, dated Revision 1, dated February 6, 2001, were accomplished: At the times specified in paragraph (b)(1) or (b)(2) of this AD, as applicable, identify the part number of the cabin pressure controller calibrated in inches of mercury to determine if any installed part is incorrect, in accordance with the Accomplishment Instructions of BAe Systems (Operations) Limited Inspection Service Bulletin ISB.21-155, dated February 15, 2002.

(1) For airplanes post-Modification HCM50258A: Identify the part numbers within 30 days after the effective date of this AD; and, if any part is incorrect, limit the airplane ceiling to 31,000 feet until the incorrect part is replaced as specified by paragraph (c) of this AD.

(2) For airplanes pre-Modification HCM50258A: Identify the part numbers within 6 months after the effective date of this AD.

Corrective Action

(c) For any incorrect part identified in accordance with paragraphs (a) or (b) of this AD: Within 500 flight cycles after identification of the part number, replace the part with a new, correct part, in accordance with the Accomplishment Instructions of BAe Systems (Operations) Limited Inspection Service Bulletin ISB.21-148, Revision 1, dated February 6, 2001; or BAe Systems (Operations) Limited Inspection Service Bulletin ISB.21-155, dated February 15, 2002. As of the effective date of this AD, only BAe Systems (Operations) Limited Inspection Service Bulletin ISB.21-155 may be used. After installation of a correct part, prior to further flight, do a structural inspection and accomplish any applicable corrective actions, in accordance with a method approved by the Manager, International Branch, ANM-116, Transport Airplane Directorate, FAA; or the Civil Aviation Authority (CAA) (or its delegated agent).

Credit for Accomplishment of Previous Actions

(d) Accomplishment of the actions specified in this AD in accordance with BAe Systems (Operations) Limited Inspection Service Bulletin ISB.21-148, dated November 17, 2000, is acceptable for compliance with the corresponding actions required by this AD.

Submission of Inspection Results and Parts Not Required

(e) Although the service bulletins referenced in this AD specify to submit information to the manufacturer, and to return certain parts to the part manufacturer, this AD does not include such a requirement.

Alternative Methods of Compliance

(f)(1) In accordance with 14 CFR 39.19, the Manager, International Branch, ANM-116, is authorized to approve alternative methods of compliance for this AD.

(2) Alternative methods of compliance, approved previously in accordance with AD 2001-15-23, amendment 39-12358, are approved as alternative methods of compliance with the applicable actions in this AD.

Note 1: The subject of this AD is addressed in British airworthiness directive 004-02-2002.

Issued in Renton, Washington, on June 9, 2004.
Kalene C. Yanamura,
Acting Manager, Transport Airplane Directorate, Aircraft Certification Service.

[FR Doc. 04-13916 Filed 6-18-04; 8:45 am]

BILLING CODE 4910-13-P